Title 3—

The President

Memorandum of July 19, 2021

Delegation of Authority Under Section 1285 of the National Defense Authorization Act for Fiscal Year 2020

Memorandum for the Secretary of Defense

By the authority vested in me as President by the Constitution and the laws of the United States of America, including section 301 of title 3, United States Code, I hereby delegate to the Secretary of Defense the authority and functions vested in the President by section 1285(a) through (e) of Public Law 116-92 on the use of military force and support of partner forces to the Congress.

You are authorized and directed to publish this memorandum in the Federal Register.

THE WHITE HOUSE,

Washington, July 19, 2021

[FR Doc. 2021-15956

Filed 7-23-21; 8:45 am]

Billing code 5001-06-P